COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List product and services to be furnished by nonprofit agencies employing persons who are blind or have other severe disabilities.

DATES: Effective Date: 7/27/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail: CMTEFedReg@AbilityOne.gov.

SUPPLEMENTARY INFORMATION:

Additions

On 4/24/2009 and 5/1/2009, the Committee for Purchase From People Who Are Blind or Severely Disabled published notice (74 FR 78, page 18694 and 74 FR 83, pages 20289-20290) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

NSN: 7530-00-NIB-0880—Self Stick Table Top Easel Pad.

NPA: Assoc f/t Blind & Visually Impaired & Goodwill Ind of Greater Rochester, Rochester, NY.

Contracting Activity: Federal Acquisition Service, GSA/FSS OFC SUP CTR—Paper Products.

Coverage: A-List for the total Government requirement as aggregated by the General Services Administration.

Services

Service Type/Location: Custodial Services, Charlotte VA Clinic, 8601 University East Drive, Charlotte, NC.

NPA: OE Enterprises, Inc., Hillsborough, NC.

Contracting Activity: Department of Veterans Affairs.

Service Type/Location: Custodial Services, Military Entrance Processing Station-Camp Dodge, Building S-71, Johnston, IA.

NPA: Genesis Development, Jefferson, IA.

Contracting Activity: Dept. of the Army, XR W6BB ACA KNOX.

Barry S. Lineback,
Director, Business Operations.

[FR Doc. E9-15160 Filed 6-25-09; 8:45 am]

BILLING CODE 6353-01-P